ENVIRONMENTAL PROTECTION AGENCY

[EPA-New England Region I—EPA-R01-OW-2010-0318; FRL-9153-4]

Massachusetts Marine Sanitation Device Standard—Receipt of Petition

AGENCY: Environmental Protection Agency (EPA).

ACTION: Notice—Receipt of Petition.

SUMMARY: Notice is hereby given that a petition has been received from the Commonwealth of Massachusetts requesting a determination by the Regional Administrator, U.S. Environmental Protection Agency, that adequate facilities for the safe and sanitary removal and treatment of sewage from all vessels are reasonably available for the waters of Gloucester, Rockport, Essex, Ipswich, Rowley, Newbury, Newburyport, Salisbury, Amesbury, West Newbury, Merrimac, Groveland, North Andover, Haverhill, Methuen, and Lawrence, collectively termed the Upper North Shore for the purpose of this notice.

DATES: “Comments must be submitted by June 21, 2010.”

ADDRESSES: Submit your comments, identified by Docket ID No. EPA-R01-OW-2010-0318, by one of the following methods:

• http://www.regulations.gov. Follow the on-line instructions for submitting comments.

• E-mail: rodney.ann@epa.gov.

• Fax: (617) 918-0538.

Mail and hand delivery: U.S. Environmental Protection Agency—New England Region, Five Post Office Square, Suite 100, OEP06-1, Boston, MA 02109-3912. Deliveries are only accepted during the Regional Office's normal hours of operation (8 a.m.-5 p.m., Monday through Friday, excluding legal holidays), and special arrangements should be made for deliveries of boxed information.

Instructions: Direct your comments to Docket ID No. EPA-R01-OW-2010-0318. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the U.S. Environmental Protection Agency—New England Region, Five Post Office Square, Suite 100, OEP06-01, Boston, MA 02109-3912. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, Five Post Office Square, Suite 100, OEP06-01, Boston, MA 02109-3912. Telephone: (617) 918-1538, Fax number: (617) 918-0538; e-mail address: rodney.ann@epa.gov.

SUPPLEMENTARY INFORMATION: Notice is hereby given that a petition has been received from the Commonwealth of Massachusetts requesting a determination by the Regional Administrator, U.S. Environmental Protection Agency, pursuant to Section 312(f)(3) of Public Law 92-500 as amended by Public Law 95-217 and Public Law 100-4, that adequate facilities for the safe and sanitary removal and treatment of sewage from all vessels are reasonably available for the Upper North Shore area.

The Upper North Shore No Discharge Area will encompass the coastal waters for the cities and towns of Gloucester, Rockport, Essex, Ipswich, Rowley, Newbury, Newburyport, Salisbury, Amesbury, West Newbury, Merrimac, Groveland, North Andover, Haverhill, Methuen, and Lawrence.

The proposed No Discharge Area for the UPPER NORTH SHORE:

Waterbody/general area | From longitude | From latitude | To longitude | To latitude
The southern edge of the Upper North Shore NDA boundary is the Manchester/Gloucester municipal line at: | 70°42′50″ W | 42°34′21″ N | 70°35′59″ W | 42°33′02″ N
The northern edge of the Upper North Shore NDA boundary is MA/Seabrook, NH border at: | 70°48′47″ W | 42°52′19″ N | 70°43′57″ W | 42°52′35″ N

Waterbody/general area | Longitude | Latitude
On the Merrimack River, the inland edge of the NDA boundary is at the Essex Dam in Lawrence at: | 71°09′58″ W | 42°42′02″ N
On the Parker River, the inland edge of the NDA boundary is at the MBTA bridge in Newbury at: | 70°52′00″ W | 42°45′20″ N
On the Rowley River, the inland edge of the NDA boundary is at the MBTA bridge on the Rowley/Ipswich town line at: | 70°51′28″ W | 42°43′19″ N
On the Ipswich River, the inland edge of the NDA boundary is at County Street in Ipswich at: | 70°50′07″ W | 42°40′44″ N
On the Essex River, the inland edge of the NDA boundary is at Main Street in Essex at: | 70°46′43″ W | 42°37′55″ N
The eastern edge of the boundary is contiguous with the state/federal line also known as the Submerged Lands Act boundary line and Territorial Sea boundary.

The boundaries were chosen based on easy line-of-sight locations and generally represent all navigational waters.

There are marinas, yacht clubs and public landings/piers in the proposed area with a combination of mooring fields and dock space for the recreational and commercial vessels. Massachusetts has certified that there are 13 pumpout facilities within the proposed area available to the boating public. A list of the facilities, locations, contact information, hours of operation, and water depth is provided at the end of this petition.

Massachusetts has provided documentation indicating that the total vessel population is estimated to be 5,555 in the proposed area. It is estimated that 1525 of the total vessel population may have a Marine Sanitation Device (MSD) of some type.

In the proposed area is the Great Marsh, one of the important natural resources designated by the Commonwealth as an Area of Critical Environmental Concern (ACEC) with 25,500 acres extending from Newbury to Gloucester. The Great Marsh comprises the largest salt marsh system (over 10,000 acres) north of Long Island, New York. The 2,900 acre Parker River National Wildlife Refuge, within the ACEC, is known as an important site on the Atlantic fly-way migration route. Over 300 species of birds have been sighted here, including 75 rare species.

Six species of shellfish are harvested in the area, including soft-shell clams, surf clams, blue mussels, razor clams, oysters, and ocean quahogs. In 2007 and 2008, two million pounds of shellfish were harvested in Greater Essex with a value of $2.5 million for the communities of Gloucester, Essex, and Ipswich.

The coastal area along the Upper North Shore of Massachusetts is important for the tourism and recreation industries of the region, including Salisbury Beach State Reservation, Sandy Point State Reservation, Halibut Point State Park, Maudslay State Park, and more than 25 marinas or boat yards are adjacent to the proposed NDA. This area is a popular destination for boaters due to its natural environmental diversity and would benefit from a No Discharge Area.

Pumpout Facilities Within Proposed No Discharge Area

Upper North Shore
Name | Location | Contact info. | Hours | Mean low water depth
Gloucester Cape Ann Marina | 75 Essex Ave, Annisquam River | 978-283-3293 VHF 10 | 8am-4pm | 6 ft.
Gloucester Harbormaster | 19 Harbor Loop | 978-282-3012 VHF 16 | On call | N/A.
Rockport Harbormaster | 34 Broadway | 978-546-9589 VHF 9, 16 | On call | N/A.
Ipswich Harbormaster | 15 Elm Street, Plum Island Sound | 978-356-4343 VHF 9, 16 | On call | N/A.
Rowley Harbormaster | 497 Main Street | VHF 9 | Thur-Tue 10am-6pm | NA.
Rowley Perley's Marina | 109 Warehouse Lane | 978-948-2812 VHF 9, 16 | Mon-Fri 8am-6pm; Sat--Sun 8am-5pm | 4 ft.
Newbury Riverfront Marina | 292 High Road | 978-465-6090 VHF 9 | 8am-5pm (6pm weekend) | 4 ft.
Newburyport Cashman Park | Merrimack River | 978 462-3746 VHF 12, 16 | Self Service Memorial Day/End of October | 6 ft.
Newburyport Harbormaster | 60 Pleasant Street | 978-462-3746 VHF 12, 16 | Fri 1pm-5pm; Sat, Sun & Holidays 9am-5pm | N/A.
Amesbury Marina at Hatter's Point | 60 Merrimac Street | 978-388-7333 VHF 9 | 8am-9pm | 4 ft.
West Newbury Harbormaster | Merrimack River Town Dock | 978-363-1213 VHF 9, 16 | On call 9am-5pm | NA.
Salisbury Harbormaster | Town Wharf | 978-499-0740 VHF 12 | On call | NA.

Dated: May 13, 2010.
Ira W. Leighton,
Acting Regional Administrator, New England Region.

[FR Doc. 2010-12118 Filed 5-19-10; 8:45 am]

BILLING CODE 6560-50-P